DEPARTMENT OF COMMERCE

Foreign-Trade Zones Board

[Docket 14-2002]

Foreign-Trade Zone 153—San Diego, California; Application for Subzone; DNP Electronics America, LLC (Projection Television Screens) Chula Vista, California

An application has been submitted to the Foreign-Trade Zones Board (the Board) by the City of San Diego, grantee of FTZ 153, requesting special-purpose subzone status for the manufacturing and warehousing facilities of DNP Electronics America, LLC (DNP), located in Chula Vista, California. The application was submitted pursuant to the provisions of the Foreign-Trade Zones Act, as amended (19 U.S.C. 81a-81u), and the regulations of the Board (15 CFR part 400). It was formally filed on February 8, 2002.

The DNP facility (5.4 acres, 80 employees), is located at 2391 Fenton Street, Chula Vista, California. The facility will initially be used for the manufacturing and warehousing of projection television screens (HTS 9010.60.00, duty rate 2.6%). Components and materials sourced from abroad (representing 100% of all parts consumed in manufacturing) include: UV resin, and acrylic plates (HTS 3824.90.9150, 3920.51.5000 and 3921.19.0000, duty rate ranges from 5.0% to 6.5%). The application also requests authority for future manufacturing of shadowmask (HTS 8540.91.50, 5.4%), LCD color filters (HTS 9001.20.00, 3.5%), photomasks (HTS 3705, duty-free), and lead frames (HTS 8542, duty-free) using the following imported components: chemical products, plates of plastic, glass plate for photomask and color filter, metal coil for shadow mask and aperture grille, metal coil for lead frame, nickel plates and parts for projection screens (HTS 3824, 3920, 3921, 7014.00.50, 7209.28.0000, 7225.99.0000, 7226.99.0000, 7410.22.0000, 7506, and 9010, duty rate ranges from duty-free to 8.4%).

FTZ procedures would exempt DNP from Customs duty payments on the foreign components used in export production. Some 80 percent of the plant's shipments are exported. On its domestic sales, DNP would be able to choose the duty rates during Customs entry procedures that apply to finished screens (2.6%) for the foreign inputs noted above. In addition, DNP products shipped to domestic television manufacturers with subzone status could be subject to the finished or unfinished television duty rate. The request indicates that the savings from FTZ procedures would help improve the plant's international competitiveness.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW., Washington, DC 20005; or

2. Submissions Via the U.S. Postal Service: Foreign-Trade-Zones Board, U.S. Department of Commerce, FCB—Suite 4100W, 1401 Constitution Ave. NW., Washington, DC 20230.

The closing period for their receipt is April 16, 2002. Rebuttal comments in response to material submitted during the foregoing period may be submitted during the subsequent 15-day period (to May 1, 2002).

A copy of the application and accompanying exhibits will be available for public inspection at the Office of the Foreign-Trade Zones Board's Executive Secretary at the first address listed above, and at the U.S. Department of Commerce Export Assistance Center, 6363 Greenwich Drive, Suite 230 San Diego, CA 92122.

Dated: February 8, 2002.
Dennis Puccinelli,
Executive Secretary.

[FR Doc. 02-3807 Filed 2-14-02; 8:45 am]

BILLING CODE 3510-DS-P